DEPARTMENT OF TRANSPORTATION

Federal Aviation Administration

14 CFR Part 95

[Docket No. 31525; Amdt. No. 576]

IFR Altitudes; Miscellaneous Amendments

AGENCY: Federal Aviation Administration (FAA), DOT.

ACTION: Final rule.

SUMMARY: This amendment adopts miscellaneous amendments to the required IFR (instrument flight rules) altitudes and changeover points for certain Federal airways, jet routes, or direct routes for which a minimum or maximum en route authorized IFR altitude is prescribed. This regulatory action is needed because of changes occurring in the National Airspace System. These changes are designed to provide for the safe and efficient use of the navigable airspace under instrument conditions in the affected areas.

DATES: Effective 0901 UTC, January 25, 2024.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., STB Annex, Bldg 26, Room 217, Oklahoma City, OK 73099. Telephone: (405) 954-1139.

SUPPLEMENTARY INFORMATION: This amendment to part 95 of the Federal Aviation Regulations (14 CFR part 95) amends, suspends, or revokes IFR altitudes governing the operation of all aircraft in flight over a specified route or any portion of that route, as well as the changeover points (COPs) for Federal airways, jet routes, or direct routes as prescribed in part 95.

The Rule

The specified IFR altitudes, when used in conjunction with the prescribed changeover points for those routes, ensure navigation aid coverage that is adequate for safe flight operations and free of frequency interference. The reasons and circumstances that create the need for this amendment involve matters of flight safety and operational efficiency in the National Airspace System, are related to published aeronautical charts that are essential to the user, and provide for the safe and efficient use of the navigable airspace. In addition, those various reasons or circumstances require making this amendment effective before the next scheduled charting and publication date of the flight information to assure its timely availability to the user. The effective date of this amendment reflects those considerations. In view of the close and immediate relationship between these regulatory changes and safety in air commerce, I find that notice and public procedure before adopting this amendment are impracticable and contrary to the public interest and that good cause exists for making the amendment effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 95

Airspace, Navigation (air).

Issued in Washington, DC, on December 22, 2023.
Thomas J. Nichols,
Aviation Safety, Flight Standards Service, Manager, Standards Section, Flight Procedures & Airspace Group, Flight Technologies and Procedures Division.

Adoption of the Amendment

Accordingly, pursuant to the authority delegated to me by the Administrator, part 95 of the Federal Aviation Regulations (14 CFR part 95) is amended as follows effective at 0901 UTC, January 25, 2024.

PART 95—IFR ALTITUDES

1. The authority citation for part 95 continues to read as follows:

Authority: 49 U.S.C. 106(g), 40103, 40113 and 14 CFR 11.49(b)(2).

2. Part 95 is amended to read as follows:

Revisions to IFR Altitudes & Changeover Point
[Amendment 576 effective date January 25, 2024]
From | To | MEA | MAA
§ 95.3000 Low Altitude RNAV Routes
§ 95.3272 RNAV ROUTE T272 Is Amended by Adding
HALLSVILLE, MO VORTAC | TYMME, IL WP | 2700 | 6000
Is Amended to Delete
HALLSVILLE, MO VORTAC | VANDALIA, IL VOR/DME | 2700 | 6000
§ 95.3320 RNAV Route T320 Is Amended to Read in Part
BEADS, NY FIX | ORCHA, NY WP | 2000 | 17500
§ 95.3358 RNAV Route T358 Is Amended by Adding
TWIRK, MD WP | *HAMRR, MD WP | **5000 | 17500
*3200-MCA HAMRR, MD WP, NW BND
**3200-MOCA
HAMRR, MD WP | DANII, MD WP | *6000 | 17500
*3100-MOCA
AVALO, NJ FIX | BRIGS, NJ FIX | 2000 | 17500
BRIGS, NJ FIX | MANTA, NJ FIX | *2500 | 17500
*1300-MOCA
MANTA, NJ FIX | BEADS, NY FIX | *2500 | 17500
*1300-MOCA
BEADS, NY FIX | ORCHA, NY WP | 2000 | 17500
ORCHA, NY WP | JORDN, NY FIX | 2000 | 17500
JORDN, NY FIX | SANDY POINT, RI VOR/DME | 1900 | 17500
SANDY POINT, RI VOR/DME | INNDY, MA FIX | 2100 | 17500
INNDY, MA FIX | BURDY, MA FIX | 2000 | 17500
BURDY, MA FIX | HAVNS, MA WP | 2000 | 17500
HAVNS, MA WP | *GRGIO, MA WP | **2500 | 17500
*1600-MCA GRGIO, MA WP, N BND
**1400-MOCA
GRGIO, MA WP | LBSTA, MA FIX | 1900 | 17500
LBSTA, MA FIX | MESHL, ME FIX | *2500 | 17500
*1200-MOCA
MESHL, ME FIX | *SAPPE, ME FIX | **2500 | 17500
*1300-MCA SAPPE, ME FIX, NE BND
**1200-MOCA
SAPPE, ME FIX | AUGUSTA, ME VOR/DME | 2300 | 17500
Is Amended to Delete
TWIRK, MD WP | MOYRR, MD WP | *5000 | 17500
*3200-MOCA
MOYRR, MD WP | DANII, MD WP | *6000 | 17500
*3100-MOCA
§ 95.3440 RNAV ROUTE T440 Is Added to Read
ELMIRA, NY VOR/DME | BIPOD, PA FIX | 4000 | 17500
BIPOD, PA FIX | TWIIN, PA FIX | 4400 | 17500
TWIIN, PA FIX | LACIE, PA FIX | 4700 | 17500
LACIE, PA FIX | LOPEZ, PA FIX | 4900 | 17500
LOPEZ, PA FIX | WLKES, PA WP | 4600 | 17500
WLKES, PA WP | EXAGE, PA FIX | *4600 | 17500
*4000-MOCA
EXAGE, PA FIX | TALLI, PA FIX | 4000 | 17500
§ 95.3445 RNAV Route T445 Is Amended to Delete
WESTMINSTER, MD VORTAC | HARRISBURG, PA VORTAC | 3800 | 17500
LYKOM, PA WP | STUBN, NY WP | 4900 | 17500
STUBN, NY WP | BEEPS, NY FIX | 4500 | 17500
Is Added to Read
LYKOM, PA WP | ELMIRA, NY VOR/DME | 4900 | 17500
ELMIRA, NY VOR/DME | BEEPS, NY FIX | 4500 | 17500
95.3455 RNAV ROUTE T455 Is Added to Read
ALLENTOWN, PA VORTAC | RACKI, PA FIX | 4000 | 17500
RACKI, PA FIX | WLKES, PA WP | *4600 | 17500
*4000-MOCA
WLKES, PA WP | SWANK, PA FIX | 4600 | 17500
SWANK, PA FIX | MUNCI, PA FIX | 4800 | 17500
MUNCI, PA FIX | LYKOM, PA WP | 4900 | 17500
LYKOM, PA WP | TRUER, PA FIX | 4400 | 17500
TRUER, PA FIX | BLAZE, PA FIX | 4600 | 17500
BLAZE, PA FIX | WIGGZ, PA WP | 4600 | 17500
*4000-MOCA
§ 95.3457 RNAV Route T457 Is Added to Read
JIIMS, NJ WP | GABRS, NJ WP | 1800 | 17500
GABRS, NJ WP | RIDNG, NJ WP | 1900 | 17500
RIDNG, NJ WP | BOJID, PA WP | 2600 | 17500
BOJID, PA WP | BOOCH, PA WP | 2600 | 17500
§ 95.3459 RNAV Route T459 Is Added to Read
JIIMS, NJ WP | LULOO, NJ WP | 1900 | 17500
LULOO, NJ WP | SCOOL, PA WP | 2300 | 17500
SCOOL, PA WP | DOGGR, PA WP | 2400 | 17500
§ 95.3476 RNAV Route T476 Is Added to Read
TUNDR, MD WP | FILRO, MD WP | 1800 | 17500
FILRO, MD WP | TWANE, MD WP | 1800 | 17500
TWANE, MD WP | EYEUP, MD WP | 1800 | 17500
EYEUP, MD WP | COHLE, DE WP | 1800 | 17500
COHLE, DE WP | WIMKA, NJ WP | 1800 | 17500
§ 95.3478 RNAV Route T478 Is Added to Read
RIVRS, IL WP | OXKEK, IL WP | *2700 | 17500
*2200-MOCA
OXKEK, IL WP | SPINNER, IL VORTAC | 2400 | 17500
SPINNER, IL VORTAC | CHAMPAIGN, IL VORTAC | 3100 | 17500
CHAMPAIGN, IL VORTAC | SLONI, IL WP | 2500 | 10000
SLONI, IL WP | LCOLN, IL WP | 2500 | 10000
LCOLN, IL WP | BOLRR, IN WP | 2500 | 10000
§ 95.3739 RNAV Route T739 Is Added to Read
U.S. CANADIAN BORDER | DAVDA, NY WP | 2000 | 17500
DAVDA, NY WP | SSENA, NY WP | 2000 | 17500
SSENA, NY WP | U.S. CANADIAN BORDER | 2600 | 17500
U.S. CANADIAN BORDER | CAMPO, ME FIX | 5900 | 17500
CAMPO, ME FIX | MILLINOCKET, ME VOR/DME | 6000 | 17500
MILLINOCKET, ME VOR/DME | PRENT, ME FIX | 1900 | 17500
PRENT, ME FIX | U.S. CANADIAN BORDER | 2800 | 17500
§ 95.4000 High Altitude RNAV Routes
§ 95.4042 RNAV Route Q42 Is Amended by Adding
LEWRP, MO WP | LCOLN, IL WP | *34000 | 45000
*18000-GNSS MEA
*DME/DME/IRU MEA
LCOLN, IL WP | SNKPT, IN WP | *34000 | 45000
*18000-GNSS MEA
*DME/DME/IRU MEA
SNKPT, IN WP | HIDON, OH WP | *24000 | 45000
*18000-GNSS MEA
*DME/DME/IRU MEA
Is Amended to Delete
KIRKSVILLE, MO VORTAC | DANVILLE, IL VORTAC | *34000 | 45000
*18000-GNSS MEA
*DME/DME/IRU MEA
DANVILLE, IL VORTAC | MUNCIE, IN VOR/DME | *34000 | 45000
*18000-GNSS MEA
*DME/DME/IRU MEA
MUNCIE, IN VOR/DME | BRNAN, PA WP | *24000 | 45000
*18000-GNSS MEA
*DME/DME/IRU MEA
Is Amended to Read in Part
HIDON, OH WP | BUBAA, OH WP | *24000 | 45000
*18000-GNSS MEA
*DME/DME/IRU MEA
BUBAA, OH WP | PSYKO, PA WP | *24000 | 45000
*18000-GNSS MEA
*DME/DME/IRU MEA
PSYKO, PA WP | BRNAN, PA WP | *24000 | 45000
*18000-GNSS MEA
*DME/DME/IRU MEA
BRNAN, PA WP | HOTEE, PA WP | *18000 | 45000
*18000-GNSS MEA
*DME/DME/IRU MEA
HOTEE, PA WP | SPOTZ, PA WP | *18000 | 45000
*18000-GNSS MEA
*DME/DME/IRU MEA
SPOTZ, PA WP | ZIMMZ, PA FIX | *18000 | 45000
*18000-GNSS MEA
*DME/DME/IRU MEA
§ 95.4046 RNAV Route Q46 Is Amended by Adding
VANTY, AK WP | BARROW, AK VOR/DME | *18000 | 45000
*GNSS REQUIRED
Is Amended to Delete
POINT HOPE, AK NDB | BARROW, AK VOR/DME | *18000 | 45000
*GNSS REQUIRED
§ 95.4951 RNAV Route Q951 Is Amended by Adding
DAVDA, NY WP | SSENA, NY WP | *18000 | 45000
*18000-GNSS MEA
*DME/DME/IRU MEA
SSENA, NY WP | U.S. CANADIAN BORDER | *18000 | 45000
*18000-GNSS MEA
*DME/DME/IRU MEA
Is Amended to Delete
DAVDA, NY WP | SAVAL, NY WP | *18000 | 45000
*18000-GNSS MEA
*DME/DME/IRU MEA
SAVAL, NY WP | U.S. CANADIAN BORDER | *18000 | 45000
*18000-GNSS MEA
*DME/DME/IRU MEA
U.S. CANADIAN BORDER | U.S. CANADIAN BORDER | *18000 | 45000
*18000-GNSS MEA
*DME/DME/IRU MEA

From | To | MEA
§ 95.6001 Victor Routes—U.S
§ 95.6014 VOR Federal Airway V14 Is Amended to Delete
ST LOUIS, MO VORTAC | VANDALIA, IL VOR/DME | 2500
VANDALIA, IL VOR/DME | TERRE HAUTE, IN VORTAC | 2400
§ 95.6067 VOR Federal Airway V67 Is Amended to Delete
CORKI, IL FIX | VANDALIA, IL VOR/DME | 2500
VANDALIA, IL VOR/DME | SPINNER, IL VORTAC | 2500
§ 95.6107 VOR Federal Airway V107 Is Amended to Read In Part
PANOCHE, CA VORTAC | *CATHE, CA FIX | **7000
*7000-MCA CATHE, CA FIX, NW BND
**5800-MOCA
CATHE, CA FIX | VINCO, CA FIX | 7000
VINCO, CA FIX | MABRY, CA FIX
| SE BND | 7000
| NW BND | 6200
MABRY, CA FIX | MISON, CA FIX
| SE BND | 7000
| NW BND | 5500
MISON, CA FIX | OAKLAND, CA VOR/DME
| SE BND | 7000
| NW BND | 5100
OAKLAND, CA VOR/DME | *COMMO, CA FIX | **5000
*4200-MCA COMMO, CA FIX, W BND
**4000-MOCA
§ 95.6158 VOR Federal Airway V158 Is Amended to Delete
DUBUQUE, IA VORTAC | POLO, IL VOR/DME | 2800
POLO, IL VOR/DME | SHOOF, IL FIX | 2700
§ 95.6171 VOR Federal Airway V171 Is Amended to Delete
TERRE HAUTE, IN VORTAC | DANVILLE, IL VORTAC | 2500
DANVILLE, IL VORTAC | PEOTONE, IL VORTAC | 2500
§ 95.6172 VOR Federal Airway V172 Is Amended to Delete
CEDAR RAPIDS, IA VOR/DME | LISBO, IA FIX | 2700
LISBO, IA FIX | LOTTE, IA FIX | 3300
LOTTE, IA FIX | POLO, IL VOR/DME | 2700
POLO, IL VOR/DME | DUPAGE, IL VOR/DME | 2600
§ 95.6208 VOR Federal Airway V208 Is Amended to Read in Part
OCEANSIDE, CA VORTAC | *VISTA, CA FIX | 3100
*8000-MRA
*5000-MCA VISTA, CA FIX, E BND
VISTA, CA FIX | JULIAN, CA VORTAC | 8000
§ 95.6216 VOR Federal Airway V216 Is Amended to Read in Part
LOTTE, IA FIX | WACKS, IL FIX | *4000
*2300-MOCA
WACKS, IL FIX | JANESVILLE, WI VOR/DME
| NE BND | 2800
| SW BND | 4000
§ 95.6251 VOR Federal Airway V251 Is Amended to Delete
CHAMPAIGN, IL VORTAC | *DANVILLE, IL VORTAC | 2500
DANVILLE, IL VORTAC | BOILER, IN VORTAC | 2500
§ 95.6301 VOR Federal Airway V301 Is Amended to Read in Part
PANOCHE, CA VORTAC | *SUNOL, CA FIX | 6600
*6500-MCA SUNOL, CA FIX, SE BND
SUNOL, CA FIX | OAKLAND, CA VOR/DME | 4800
OAKLAND, CA VOR/DME | *COMMO, CA FIX | **5000
*4200-MCA COMMO, CA FIX, W BND
**4000-MOCA
§ 95.6458 VOR Federal Airway V458 Is Amended to Read in Part
OCEANSIDE, CA VORTAC | *VISTA, CA FIX | 3100
*8000-MRA
*5000-MCA VISTA, CA FIX, E BND
VISTA, CA FIX | JULIAN, CA VORTAC | 8000
§ 95.6311 Alaska VOR Federal Airway V311 Is Amended To Read In Part
ANNETTE ISLAND, AK VOR/DME | DWARF, AK FIX | *7000
*5000-MOCA
DWARF, AK FIX | UDENE, AK FIX | *9000
*5600-MOCA
UDENE, AK FIX | *TOKEE, AK FIX
| W BND | **10000
| E BND | **9000
*10000-MCA TOKEE, AK FIX, W BND
**5000-MOCA
TOKEE, AK FIX | WIBTA, AK FIX | *10000
*4700-MOCA
WIBTA, AK FIX | FLIPS, AK FIX
| W BND | *7500
| E BND | *10000
*6100-MOCA
§ 95.6318 Alaska VOR Federal Airway V318 Is Amended to Delete
ANNETTE ISLAND, AK VOR/DME | LEVEL ISLAND, AK VOR/DME | 6000
§ 95.6453 Alaska VOR Federal Airway V453 Is Amended to Read in Part
DILLINGHAM, AK VOR/DME | ALTEY, AK FIX
| SE BND | *7000
| NW BND | *8000
*6500-MOCA

From | To | MEA | MAA
§ 95.7001 Jet Routes
§ 95.7084 JET Route J84 Is Amended to Delete
NORTHBROOK, IL VOR/DME | DANVILLE, IL VORTAC | 18000 | 35000

§ 95.8005 Jet Routes Changeover Points
Airway segment: From | Airway segment: To | Changeover points: Distance | Changeover points: From
§ 95.8005 Jet Routes Changeover Points
J84 Is Amended to Delete Changeover Point
NORTHBROOK, IL VOR/DME | DANVILLE, IL VORTAC | 67 | NORTHBROOK.

[FR Doc. 2023-28895 Filed 1-2-24; 8:45 am]

BILLING CODE 4910-13-P